DEPARTMENT OF ENERGY

Federal Energy Regulatory Commission

[Docket No. RP96-389-080]

Columbia Gulf Transmission Company; Notice of Negotiated Rate Filing

April 2, 2003.

Take notice that on March 28, 2003, Columbia Gulf Transmission Company (Columbia Gulf) tendered for filing the following contract for disclosure of a negotiated rate transaction:

FTS-1 Service Agreement No. 75269 between Columbia Gulf Transmission Company and EnergyUSA-TPC dated March 25, 2003

Columbia Gulf states that transportation service is to commence April 1, 2003 and end October 31, 2003 under the agreement.

Columbia Gulf further states that it has served copies of the filing on all parties identified on the official service list in Docket No. RP96-389.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 9, 2003.

Magalie R. Salas,
Secretary.

[FR Doc. 03-8478 Filed 4-7-03; 8:45 am]

BILLING CODE 6717-01-P